DEPARTMENT OF HEALTH AND HUMAN SERVICES

National Institutes of Health

Center for Scientific Review; Amended Notice of Meeting

Notice is hereby given of a change in the meeting of the Center for Scientific Review Emphasis Panel, February 19, 2003, 10:30 a.m. to February 19, 2003, 5:30 p.m., which was published in the Federal Register on February 5, 2003, 68 FR 5906-5908.

The meeting times have been changed to 8 a.m. to 6 p.m. The meeting date and location remain the same. The meeting is closed to the public.

Dated: February 11, 2003.
LaVerne Y. Stringfield,
Director, Office of Federal Advisory Committee Policy.

[FR Doc. 03-3897 Filed 2-18-03; 8:45 am]

BILLING CODE 4140-01-M